DEPARTMENT OF COMMERCE

Economic Development Administration

Notice of Petitions by Producing Firms for Determination of Eligibility To Apply for Trade Adjustment Assistance

AGENCY: Economic Development Administration (EDA), Commerce.

ACTION: To give all interested parties an opportunity to comment.

Petitions have been accepted for filing on the dates indicated from the firms listed below.

List of Petition Action by Trade Adjustment Assistance for Period August 21, 2004-September 17, 2004
Firm name | Address | Date petition accepted | Product
Carol Carter Enterprises d.b.a. Cooley Sportswear | 8938 East Admiral Place, Tulsa, OK 74165 | 8/23/04 | Track suits.
Dramm & Echter, Inc | P.O. Box 230816, Encinitas, CA 92023 | 8/23/04 | Cut flowers.
Carol Carter Enterprises d.b.a. Cooley Sportswear | 8938 East Admiral Place, Tulsa, OK 74165 | 8/23/04 | Track suits.
Elec-Tec., Inc | 707 Industrial Boulevard Valdosta, GA 31601 | 8/23/04 | Electrical wiring harnesses.
Pines International, Inc | 1992 East 1400 Road, Lawrence, KS 66044 | 8/23/04 | Barley and alfalfa products.
Weiler Corporation | One Wildwood Drive, Cresco, PA 18326 | 8/24/04 | Wire brushes and abrasives for the automotive, welding and fabrication and pipeline industries.
Intermountain Furniture Manufacturing Company, Inc | 235 S. 600 W. Salt Lake City, UT 84101 | 8/31/04 | Upholstered sofas, loveseats and chairs for household use.
Absolute Control Systems, Inc | 14452 West 44th Avenue, Golden, CO 80403 | 9/1/04 | Enclosure systems for process control in industrial applications.
Artisans, Inc | W4146 2nd Street, Glen Flora, WI 54526 | 9/1/04 | Screen printed and embroidered sportswear.
MAFCO, Inc | 1203 North 6th Street, Rogers, AR 72757 | 9/1/04 | Cast iron hydrants and brass valves.
Vista Metals, Inc | 1024 East Smithfield Street, McKeesport, PA 15135 | 9/1/04 | Die-grade cemented tungsten carbide products.
A. D. Harrington d.b.a. Temple Industries | 153-B Extrusion Place Hot Springs, AR 71901 | 9/2/04 | Aluminum extrusions.
Pipeline Inspection Co., Ltd | 1919 Antoine, Houston, TX 77055 | 9/2/04 | Holiday detectors.
Woolrich, Inc | P.O. Box 138, Woolrich, PA 17779 | 9/3/04 | Wool broadloom blankets and piece goods.
Christian Plastics, Inc | 240 North Hollywood Road, Houma, LA 70364 | 9/9/04 | Plastic injection molds.

The petitions were submitted pursuant to Section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm. Any party having a substantial interest in the proceedings may request a public hearing on the matter. A request for a hearing must be received by Trade Adjustment Assistance, Room 7315, Economic Development Administration, U.S. Department of Commerce, Washington, DC 20230, no later than the close of business of the tenth calendar day following the publication of this notice.

(The Catalog of Federal Domestic Assistance official program number and title of the program under which these petitions are submitted is 11.313, Trade Adjustment Assistance)
Dated: September 22, 2004.
Brenda A. Johnson,
National Technical Assistance Specialist, Public Affairs Division.

[FR Doc. 04-21641 Filed 9-27-04; 8:45 am]

BILLING CODE 3510-24-P